DEPARTMENT OF HEALTH AND HUMAN SERVICES

Administration for Children and Families

Notice of Availability of the Biennial Report to Congress on the Status of Children in Head Start Programs

AGENCY: Administration for Children and Families (ACF), Department of Health and Human Services.

ACTION: Notice.

SUMMARY: The Administration for Children and Families announces publication of the Biennial Report to the Congress on the Status of Children in Head Start Programs, Fiscal Year 2005. The report is mandated under Section 650 of the Head Start Act, as amended, which requires the Secretary of Health and Human Services to submit a report to the Congress at least once during every two-year period on the status of children in Head Start programs. During fiscal year 2005 more than 906,000 children were enrolled in Head Start programs including 62,000 children in Early Head Start programs serving children between birth and three years of age.

Effective Dates: November 8, 2007.

ADDRESSES: Persons wishing to receive a copy of the Biennial Report to Congress on the Status of Children in Head Start Programs, Fiscal Year 2005 may contact the Head Start Publication Center on 866-763-6481. Copies of the report may also be obtained by accessing the Office of Head Start Web site at http://www.acf.hhs.gov/programs/ohs.

FOR FURTHER INFORMATION CONTACT: Patricia E. Brown, Acting Director, Office of Head Start, 1250 Maryland Avenue, SW., 8th floor, Washington, DC 20024.

SUPPLEMENTARY INFORMATION: The Head Start and Early Head Start programs are authorized under the Head Start Act (42 U.S.C. 9801 et seq.). Head Start is a national program providing comprehensive developmental services to low-income preschool children, primarily age three to age of compulsory school attendance, and their families. To help enrolled children achieve their full potential, Head Start programs provide comprehensive health, nutritional, educational, social and other services. Section 650 of the Head Start Act requires that the Secretary publish a Biennial Report of the Status of Children in Head Start Programs. The fiscal year 2005 Biennial Report provides information about children enrolled in the program and the services they receive. During fiscal year 2005 more than 906,000 were enrolled in Head Start programs. Head Start operated 49,000 classrooms in more than 19,000 Head Start centers at an average annual cost per child of $7,287. Over 1,300,000 volunteers contributed their services to Head Start programs.

Dated: October 25, 2007.
Patricia E. Brown,
Acting Director, Office of Head Start.

[FR Doc. 07-5577 Filed 11-7-08; 8:45 am]

BILLING CODE 4184-01-M